DEPARTMENT OF AGRICULTURE

Forest Service

Notice of Settlement Pursuant to CERCLA; Jordan Road Shooting Range, Coconino County, AZ

AGENCY: Forest Service, USDA.

ACTION: Notice of settlement.

SUMMARY: In accordance with section 122(i) of the Comprehensive Environmental Response, Compensation, and Liability Act, as amended (CERCLA), 42 U.S.C. 9622(i), notice is hereby given of an administrative settlement for recovery of past response costs with Coconino County (the Settling Party) concerning the Jordan Road Shooting Range, Coconino County, Arizona. The settlement requires the Settling Party to pay $155,000 to the USDA Forest Service, Southwestern Region, pursuant to section 122(h)(1) of CERCLA, 42 U.S.C. 9622(h)(1). The settlement includes a covenant not to use the Settling Party pursuant to sections 106 and 107(a) of CERCLA, 42 U.S.C. 9606 and 9607(a), with regard to the Site.

For thirty (30) days following the date of publication of this notice, the United States will receive written comments relating to the settlement. The United States will consider all comments received and may modify or withdraw its consent to the settlement if comments received disclose facts or considerations which indicate that the settlement is inappropriate, improper, or inadequate. The United States' response to any comments received will be available for public inspection at the Red Rock Ranger District, P.O. Box 300, 250 Brewer Road, Sedona, AZ 86339-0330, and at the offices of the USDA Forest Service Southwestern Region, 333 Broadway, SE., Albuquerque, NM 87102.

DATES: Comments must be submitted on or before September 29, 2003.

ADDRESSES: The proposed settlement is available for public inspection at the Red Rock Ranger District, P.O. Box 300, 250 Brewer Road, Sedona, AZ 86339-0330 and at the offices of the USDA Forest Service Southwestern Region, 333 Broadway, SW., Albuquerque, NM 87102. A copy of the proposed settlement may be obtained from Ken Anderson on the Red Rock Ranger District at 928-203-7501 (direct) or 928-282-4119 (backup) or from Kirk M. Minckler with USDA's Office of the General Counsel, (303) 275-5549. Comments should reference the Jordan Road Shooting Range, Coconino County, Arizona, and should be addressed to Kirk M. Minckler, USDA Office of the General Counsel, P.O. Box 25005, Denver, CO 80225-0005.

FOR FURTHER INFORMATION CONTACT: For technical information, contact Maria McGaha, USDA Forest Service Southwestern Region, 333 Broadway, SE., Albuquerque, NM 87102, phone (505) 842-3837. For legal information, contact Kirk M. Minckler, USDA Office of the General Counsel, P.O. Box 25005, Denver, CO 80225-0005; phone (303) 275-5549.

Dated: August 20, 2003.
Marlin A. Johnson,
Assistant Director, Forestry, USDA Forest Service, Southwestern Region.

[FR Doc. 03-22075 Filed 8-28-03; 8:45 am]

BILLING CODE 3410-11-M